DEPARTMENT OF HEALTH AND HUMAN SERVICES

Health Resources and Services Administration

Notice of Intent To Make Temporary Changes in the State Title V Maternal and Child Health Block Grant Allocations

AGENCY: Health Resources and Services Administration (HRSA), Department of Health and Human Services.

ACTION: Response to solicitation of comments.

SUMMARY: HRSA plans to move forward in implementing temporary changes to the method of calculating poverty-based allocations under Title V of the Social Security Act for HRSA's State Title V Maternal and Child Health (MCH) Services Block Grant, beginning in Fiscal Year (FY) 2023. Since FY 2017, the poverty-based allocation has been based on the U.S. Census Bureau's 3-year American Community Survey (ACS) estimates using three pooled 1-year estimates. However, due to the COVID-19 pandemic, there were disruptions in the ACS data collection in 2020 resulting in data quality issues that prevented the Census Bureau from releasing standard 1-year ACS estimates; instead, the Census Bureau released experimental estimates. The ACS 2020 experimental estimates will be excluded from calculating Title V MCH Services Block Grant allocations, and the FY 2023 funding allocation will be based on the same poverty data used in the FY 2022 allocation (i.e., pooled 1-year estimates for 2017, 2018, and 2019 ACS). Funding allocations for FY 2024 and FY 2025 will continue to incorporate the latest 1-year ACS data while skipping 2020 (i.e., for FY 2024, the 2018, 2019, and 2021 ACS data will be used; for FY 2025, the 2019, 2021, and 2022 ACS data will be used). In FY 2026, the temporary change to the method for calculating allocations will no longer be necessary, and HRSA will resume pooling of three consecutive 1-year estimates (2021-2023).

DATES: Effective Date: October 1, 2022.

FOR FURTHER INFORMATION CONTACT: Christopher Dykton, Acting Director of the Division of State and Community Health, Maternal and Child Health Bureau, HRSA, Room 18N35, 5600 Fishers Lane, Rockville, Maryland 20857; telephone: (301) 433-2204; email: MCHBlockGrant@hrsa.gov.

SUPPLEMENTARY INFORMATION: Beginning in FY 2023, HRSA will temporarily change the method of calculating the poverty-based allocation to States and the District of Columbia under section 502(c) of Title V of the Social Security Act (42 U.S.C. 702(c)). Because of data collection disruptions due to the COVID-19 pandemic, the Census Bureau did not release standard 1-year ACS estimates for 2020. Survey administration methods (mailed questionnaires and interviewing in-person) were impacted beginning in March 2020, which affected response rates, in terms of who was most likely to complete mailed surveys or participate in interviews, etc.¹ The Census Bureau concluded that the 2020 ACS 1-year data were not “reasonable” as respondents disproportionately “had higher levels of education, had more married couples and few never married citizens, had less Medicaid coverage, had higher median household incomes, and fewer non-citizens, and were more likely to live in single-family housing units” than respondents in previous years. Instead, the Census Bureau decided to provide only experimental estimates for 2020 ACS 1-year data.²

¹ https://www.census.gov/library/working-papers/2021/acs/2021_CensusBureau_01.html.

² The Census Bureau defines experimental data products as “innovative statistical products created using new data sources or methodologies that benefit data users in the absence of other data products . . . Census Bureau experimental data may not meet all of HRSA's data quality standards. Because of this, HRSA clearly identifies experimental data products and includes methodology and supporting research with their release.” https://www.census.gov/data/experimental-data-products.html.

HRSA examined the 2020 ACS experimental estimates and compared the change in poverty share using a 3-year estimate incorporating the 2020 experimental estimate with prior year-to-year changes since 2014—the first year of annual updates to poverty share data using 3-year ACS estimates. HRSA noted greater observed data variability and a greater number of States that would experience large decreases in their poverty share. HRSA was concerned about the accuracy of the 2020 experimental estimates as applied to the Title V MCH Services Block Grant allocation.

In order to ameliorate these concerns and because of the nature of the data, the ACS 2020 experimental estimates will not be used in calculating Title V MCH Services Block Grant allocations. Instead, HRSA will base the FY 2023 funding allocation on the same poverty data used in the FY 2022 allocation (i.e., pooled 1-year estimates for 2017, 2018, and 2019 ACS). Funding allocations for FY 2024 and FY 2025 will continue to incorporate the latest 1-year ACS data while skipping the 2020 experimental data (i.e., for FY 2024, the 2018, 2019, and 2021 ACS data will be used; for FY 2025, the 2019, 2021, and 2022 ACS data will be used). In FY 2026, the temporary change to the method for calculating allocations will no longer be necessary, and HRSA will resume pooling of three consecutive 1-year estimates (2021-2023).

The proposed temporary change in State Title V MCH Services Block Grant allocations was announced in the Federal Register at 87 FR 37873 on June 24, 2022. A comment period of 30 days was established to allow interested parties to submit comments. HRSA received two responses. One comment expressed support for the proposed temporary change. HRSA appreciates this comment. The other comment is beyond the scope of this notice, as it did not specifically address the proposed changes in the State Title V MCH Services Block Grant allocation, but instead expressed concern about child vaccinations.

Diana Espinosa,
Deputy Administrator.

[FR Doc. 2022-19477 Filed 9-8-22; 8:45 am]

BILLING CODE 4165-15-P